ENVIRONMENTAL PROTECTION AGENCY

[FRL-9787-5]

Proposed CERCLA Settlement Relating to the 1244 White Drive Site in North Brunswick, Middlesex County, NJ

AGENCY: Environmental Protection Agency (EPA).

ACTION: Notice of Proposed Administrative Settlement and Opportunity for Public Comment.

SUMMARY: In accordance with Section 122(i) of the Comprehensive Environmental Response, Compensation, and Liability Act of 1980, as amended (“CERCLA”), notice is hereby given by the U.S. Environmental Protection Agency (“EPA”), Region 2, of a proposed Administrative Settlement Agreement for Recovery of Past Response Costs (“Agreement”) pursuant to Section 122(h)(1) of CERCLA, with Rusony Shiau and Katrina Shiau (“Settling Parties”). The Settling Parties are potentially responsible parties, pursuant to Section 107(a) of CERCLA, and thus are potentially liable for response costs incurred at or in connection with the 1244 White Drive Site (“Site”), located in North Brunswick, Middlesex County, New Jersey. Under the Agreement, the Settling Parties agree to pay a total of $429,783.54 to EPA for past response costs over a period of three years with most of that money coming from the sale of seven properties that the Settling Parties own. The Settling Parties will pay the money in accordance with the following schedule. Within 30 days of the effective date of the Settlement Agreement, the Settling Parties will pay EPA 10% ($42,978.35) of the total leaving a balance of $386,805.19. Within three years of the effective date of the Settlement Agreement, the Settling Parties will sell the seven properties that they own and pay EPA 60% of the net proceeds from the sale of each of the seven properties until the balance of $386,805.19 is paid in full. In the event that any balance remains due after the sale of the seven properties the remaining balance will be paid out of the Settling Parties' estates. EPA will consider all comments received and may modify or withdraw its consent to the Agreement if comments received disclose facts or considerations that indicate that the proposed Agreement is inappropriate, improper, or inadequate. EPA's response to any comments received will be available for public inspection at EPA Region 2 offices, 290 Broadway, New York, New York 10007-1866.

DATES: Comments must be provided by April 4, 2013.

ADDRESSES: The Agreement is available for public inspection at EPA Region 2 offices at 290 Broadway, New York, New York 10007-1866. Comments should reference the 1244 White Drive Site, located in North Brunswick, Middlesex County, New Jersey, Index No. CERCLA-02-2013-2004. To request a copy of the Agreement, please contact the EPA employee identified below.

FOR FURTHER INFORMATION CONTACT: Gerard Burke, Assistant Regional Counsel, New Jersey Superfund Branch, Office of Regional Counsel, U.S. Environmental Protection Agency, 290 Broadway—17th Floor, New York, New York 10007-1866. Telephone: 212-637-3120, email at burke.gerard@epa.gov.

Dated: February 13, 2013.
Walter E. Mugdan,
Director, Emergency and Remedial Response Division.

[FR Doc. 2013-05099 Filed 3-4-13; 8:45 am]

BILLING CODE 6560-50-P